DEPARTMENT OF DEFENSE

Defense Acquisition Regulations System

48 CFR Part 252

[Docket DARS-2019-0052]

RIN 0750-AK66

Defense Federal Acquisition Regulation Supplement: Treatment of Certain Items as Commercial Items (DFARS Case 2019-D029); Correction

AGENCY: Defense Acquisition Regulations System, Department of Defense (DoD).

ACTION: Correcting amendment.

SUMMARY: DoD is correcting final regulations that published in the Federal Register on September 29, 2020, to reflect that the clause date for the DFARS section on subcontracts for commercial items should be “(OCT 2020)”.

DATES: Effective October 16, 2020.

FOR FURTHER INFORMATION CONTACT: Ms. Jennifer D. Johnson, Defense Acquisition Regulations System, OUSD(A&S) DPC(DARS), Room 3B938, 3060 Defense Pentagon, Washington, DC 20301-3060. Telephone 571-372-6100.

SUPPLEMENTARY INFORMATION: On September 29, 2020, DoD published in the Federal Register at 85 FR 60918 a final rule titled “Treatment of Certain Items as Commercial Items”. The purpose of this correction is to reflect that the clause date for DFARS 252.244-7000, Subcontracts for Commercial Items, should be “(OCT 2020)” and not “(SEP 2020)” as published in the final rule.

List of Subjects in 48 CFR Part 252

Government procurement.

Jennifer D. Johnson,
Regulatory Control Officer, Defense Acquisition Regulations System.

Therefore, 48 CFR part 252 is amended as follows:

PART 252—SOLICITATION PROVISIONS AND CONTRACT CLAUSES

1. The authority citation for 48 CFR part 252 continues to read as follows:

Authority: 41 U.S.C. 1303 and 48 CFR chapter 1.

252.244-7000 [Amended]

2. Amend section 252.244-7000 by removing the clause date of “(SEP 2020)” and adding “(OCT 2020)” in its place.

[FR Doc. 2020-22752 Filed 10-15-20; 8:45 am]

BILLING CODE 5001-01-P